DEPARTMENT OF STATE

[Public Notice: 9568]

Updated List of Goods and Services Produced by Independent Cuban Entrepreneurs Authorized for Importation

AGENCY: Department of State.

Subagency: Bureau of Economic and Business Affairs.

ACTION: Notice, publication of updated list of goods and services produced by independent Cuban entrepreneurs authorized for importation into the United States.

SUMMARY: On April 22, 2016, the Department of State published on its Web site an updated list of goods and services produced by independent Cuban entrepreneurs whose importation into the United States is authorized by the Department of the Treasury's Cuban Assets Control Regulations (“CACR”). This list updates the version of the list published on February 13, 2015. These changes allow for more engagement with Cuba's private sector through new business opportunities.

DATES: April 22, 2016.

FOR FURTHER INFORMATION CONTACT: Office of Economic Sanctions Policy and Implementation, tel.: 202-647-7489; Office of the Coordinator for Cuban Affairs, tel.: 202-647-9273, Department of State, Washington, DC 20520 (not toll-free numbers).

SUPPLEMENTARY INFORMATION:

Electronic Availability

This document and additional information concerning the List are available from the Department of State's Web site (http://www.state.gov/e/eb/tfs/spi/cuba/515582/237471.htm). Additional information about the President's new course on Cuba is also on the Web site (www.state.gov/p/wha/ci/cu/cuba/).

Background

On January 16, 2015, the Department of the Treasury's Office of Foreign Assets Control (OFAC) published a final rule in the Federal Register (80 FR 2291, Jan. 16, 2015) amending the Cuban Assets Control Regulations (CACR), 31 CFR part 515, to implement the President's December 17, 2014, policy announcement on Cuba. Section 515.582 of the CACR was added to authorize persons subject to U.S. jurisdiction to engage in all transactions, including payments, necessary to import certain goods and services produced by independent Cuban entrepreneurs as determined by the State Department as set forth on the State Department's Section 515.582 List. Empowering the Cuban people and Cuban civil society is central to the Administration's approach to Cuba, which seeks to create new opportunities for Cuba's nascent private sector. The State Department's Section 515.582 List was first published February 13, 2015 on its Web site and went into effect immediately upon publication.

On April 22, 2016, the State Department updated the Section 515.582 List, authorizing persons subject to U.S. jurisdiction to import coffee and additional textiles and textile articles produced by independent Cuban entrepreneurs, in addition to the items previously authorized. The updated List also removes the requirement that imports of authorized goods need to be made directly from Cuba. These changes allow for more engagement with Cuba's private sector through new business opportunities.

The List published on the State Department's Web site on April 22, 2016, replaces in full the version of the List published on February 13, 2015. The List is as follows, and may be updated by the State Department periodically.

U.S. Department of State

Section 515.582 List

Goods and Services Eligible for Importation

In accordance with the policy changes announced by the President on December 17, 2014, to further engage and empower the Cuban people, Section 515.582 of the Cuban Assets Control Regulations (31 CFR part 515—the CACR) authorizes the importation into the United States of certain goods and services produced by independent Cuban entrepreneurs as determined by the State Department as set forth on the Section 515.582 List, below.

Goods

The goods whose import is authorized by Section 515.582 are goods produced by independent Cuban entrepreneurs, as demonstrated by documentary evidence, that are imported into the United States, except for goods specified in the following sections/chapters of the Harmonized Tariff Schedule of the United States (HTS):

• Section I: Live Animals; Animal Products

○ All chapters

• Section II: Vegetable Products

○ All chapters, except Chapter 9 heading 0901 (coffee)

**Please note that exporters will be required to prove that they have met all sanitary and phytosanitary standards, including food safety.

• Section III: Animal or Vegetable Fats and Oils and their Cleavage Products; Prepared Edible Fats; Animal or Vegetable Waxes

○ All chapters

• Section IV: Prepared Foodstuffs; Beverages, Spirits, and Vinegar; Tobacco and Manufactured Tobacco Substitutes

○ All chapters

• Section V: Mineral Products

○ All chapters

• Section VI: Products of the Chemical or Allied Industries

○ Chapters 28-32; 35-36, 38

• Section XV: Base Metals and Articles of Base Metal

○ Chapters 72-81

• Section XVI: Machinery and Mechanical Appliances; Electrical Equipment; Parts Thereof; Sound Recorders and Reproducers, Television Image and Sound Recorders and Reproducers, and Parts and Accessories of Such Articles

○ All chapters

• Section XVII: Vehicles, Aircraft, Vessels, and Associated Transportation Equipment

○ All chapters

• Section XIX: Arms and Ammunition; Parts and Accessories Thereof

○ All chapters

This list does not supersede or excuse compliance with any additional requirements in U.S. law or regulation, including the relevant duties as set forth on the HTS.

For travelers importing authorized goods into the United States pursuant to § 515.582 as accompanied baggage, the $400 monetary limit set forth in § 515.560(c)(3) does not apply to such goods, but goods may be subject to applicable duties, fees, and taxes.

Services

The authorized services pursuant to 31 CFR 515.582 are services supplied by an independent Cuban entrepreneur in Cuba, as demonstrated by documentary evidence. Persons subject to U.S. jurisdiction engaging in import transactions involving services supplied by an independent Cuban entrepreneur pursuant to § 515.582 are required to obtain documentary evidence that demonstrates the entrepreneur's independent status, such as a copy of a license to be self-employed issued by the Cuban government or, in the case of an entity, evidence that demonstrates that the entrepreneur is a private entity that is not owned or controlled by the Cuban government. Supply of services must comply with other applicable state and federal laws.

Note 1: All payments in settlement of transactions authorized by § 515.582 should reference this section in order to avoid having them rejected.

Note 2: The authorization in § 515.582 of the CACR does not supersede or excuse compliance with U.S. laws or regulations or any other additional requirements.

Note 3: The Department of State, in consultation with other federal agencies, reserves the right to update this document periodically. Any subsequent updates will take effect when published on the Web page of the Bureau of Economic and Business Affairs' Office of Sanctions Policy and Implementation (http://www.state.gov/e/eb/tfs/spi). Updates will also be published in the Federal Register. For further information, please contact the State Department at 202-647-7489.

Note 4: For provisions relating to recordkeeping and reports, see 31 CFR 501.601 and 501.602 and 19 CFR part 163.

With this notice, the Department of State is publishing its April 22, 2016, Section 515.582 List.

Charles H. Rivkin,
Assistant Secretary, Economic and Business Affairs.

[FR Doc. 2016-11730 Filed 5-17-16; 8:45 am]

BILLING CODE 4710-AE-P